NUCLEAR REGULATORY COMMISSION

[NRC-2018-0124]

Biweekly Notice; Applications and Amendments to Facility Operating Licenses and Combined Licenses Involving No Significant Hazards Considerations

Correction

In notice document 2018-13758, appearing on pages 31180-31190 in the Issue of Tuesday, July 3, 2018, make the following correction:

On page 31180, in the second column, under the heading “DATES:”, the entry “September 3, 2018” is corrected to read “September 4, 2018”.

[FR Doc. C1-2018-13758 Filed 7-9-18; 8:45 am]

BILLING CODE 1301-00-D